GENERAL SERVICES ADMINISTRATION

Notice of Intent To Prepare an Environmental Impact Statement and Hold a Public Scoping Meeting for the Master Site Plan, Denver Federal Center in Lakewood, CO

AGENCY: Public Building Service, GSA.

ACTION: Notice of intent.

SUMMARY: The General Services Administration (GSA) announces its intention to prepare an Environmental Impact Statement (EIS) under the National Environmental Policy Act (NEPA) of 1969 to assess the potential environmental effects of the proposed action and its alternatives described in the Master Site Plan to enable GSA to make an informed analysis and conclusion leading to the preparation of a Final Master Site Plan and Final EIS for the Denver Federal Center in Lakewood, Colorado.

The existing Master Site Plan was completed in 1997. Since that time, potential development and redevelopment opportunities and the changing real estate market make the 1997 Master Site Plan outdated. The analysis will include a review of all existing buildings on site, all existing and planned infrastructure systems and improvements, necessary capital investment needs and all vacant land. A primary focus will be on short and long term planning for Federal agency needs and requirements. A No Action alternative will also be studied that will evaluate the consequences of not implementing an action alternative. This alternative is included to provide a basis for comparison to the action alternatives described above as required under NEPA regulations (40 CFR 1002.14(d)).

GSA invites individuals, organizations and agencies to submit comments concerning the scope of the EIS. The public scoping period starts with the publication of this notice in the Federal Register and will continue for forty five (45) days from the date of this notice. GSA will consider all comments received or postmarked by that date in defining the scope of the EIS. GSA expects to issue a Draft EIS by January 2007 at which time its availability will be announced in the Federal Register and local media. A public comment period will commence upon the publication of the Notice of Availability. The GSA will consider and respond to comments received on the Draft EIS in preparing the Final EIS.

ADDRESSES: Written comments or suggestions concerning the scope of the EIS should be sent to Joan DeGraff, Senior Project Manager, 1809 Blake Street, Suite 200, Denver, Colorado 80202, telephone number 303-308-3564.

FOR FURTHER INFORMATION CONTACT: Lisa Morpurgo by telephone at (303) 236.8000 ext. 5039 or by email at dfcsiteplan@gsa.gov.

SUPPLEMENTARY INFORMATION: A public scoping meeting will provide the public with an opportunity to present comments, as questions, and discuss concerns regarding the scope of the EIS for the Proposed Action with GSA representatives. GSA will hold a public scoping meeting at the Community Open House, Exhibit Hall 3, Jefferson County Fairgrounds, 15200 W. 6th Avenue on May 17, 2006 from 4 p.m. to 8 p.m.

Dated: April 27, 2006.
Lisa Dorsey Morpurgo,
Senior Project Manager, DFC Service Center, GSA, PBS, Rocky Mountain Region.

[FR Doc. E6-6715 Filed 5-2-06; 8:45 am]

BILLING CODE 6820-BK-P